DEPARTMENT OF AGRICULTURE

Submission for OMB Review; Comment Request

October 18, 2000.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

National Agricultural Statistics Service

Title: Agricultural Surveys Program.

OMB Control Number: 0535-0213.

Summary of Collection: The National Agriculture Statistics Service's (NASS) primary function is to prepare and issue state and national estimates of crop and livestock production and collection information on related environmental and economic factors. The Agricultural Surveys Program is a series of surveys that contains basic agricultural data from farmers and ranchers throughout the Nation for preparing agricultural estimates and forecasts. The surveys results provide the foundation for setting livestock and poultry inventory numbers. Estimates derived from the survey supply information needed by farmers to make decisions for both short and long-term planning. The Agriculture Surveys Program has been modified and the changes are: discontinuance of the Fall Area Survey, addition of a Monthly Hog Survey, addition of questions regarding losses of cattle and use of biotechnology in the production of corn, soybeans, and upland cotton.

Need and Use of The Information: The surveys provide the basis for estimates of the current season's crop and livestock production and supplies of grain in storage. Crop and livestock statistics help develop a stable economic atmosphere and reduce risk for production, marketing, and distribution operations. These commodities affect the well being of the nation's farmers, commodities markets, and national and global agricultural policy. Users of agricultural statistics are farm organizations, agribusiness, state and national farm policy makers, and foreign buyers of agricultural products. However, the primary user of the statistical information is the producer. Agricultural statistics are also used to plan and administer other related federal and state programs in such areas as the school lunch program, conservation, foreign trade, education, and recreation.

Collecting the information less frequently would eliminate needed data to keep the government and agricultural industry abreast of changes at the state and national levels.

Description of Respondents: Business or other for-profit.

Number of Respondents: 606,800.

Frequency of Response: Reporting: Quarterly.

Total Burden Hours: 141,022.

Economic Research Service

Title: Assessment of WIC Coast-Containment Practices.

OMB Control Number: 0536-NEW.

Summary of Collection: The Economic Research Service (ERS) of the Department of Agriculture (USDA) is responsible for conducting studies and evaluations of the nation's food assistance programs that are administered by the Food and Nutrition Service (FNS). The Women, Infants, and Children (WIC) Program is the second largest domestic food-assistance program in the United States. The need to conduct an assessment of the WIC program arises from the legislative mandate in the William F. Goodling Child Nutrition Reauthorization Act of 1998 (42 U.S.C. 1786; Pub. L. 105-336) to study the impact of cost containment in the WIC program. WIC provides a comprehensive set of services, including supplemental foods, nutrition education, and increased access to health care and social services for pregnant, breastfeeding, and postpartum women; infants; and children up to the age of five years. ERS will collect information using a survey.

Need and Use of the Information: ERS will collect information to determine access and availability of prescribed foods; actual food selections by participants; voucher redemption rates and participants use of and satisfaction with prescribed foods; participants on special diets or with specific food allergies; achievement of positive health outcomes; program costs; and program participation. The information will be used in the Assessment of WIC Cost Containment Practices to analyze the effects of current cost containment practices established by states on program participation, selected participant outcomes, and program costs. If the study were not conducted there would be no way to assess the consequences, both good and bad, or WIC cost-containment practices in order to determine if such practices should be encouraged or discouraged by program officials and the Congress.

Description of Respondents: Individuals or households; State, Local, or Tribal Government.

Number of Respondents: 2,052.

Frequency of Responses: Reporting: Other (one time).

Total Burden Hours: 817.

Rural Utility Service

Title: Water and Waste Disposal Programs Guaranteed Loans.

OMB Control Number: 0572-NEW.

Summary of Collection: The Rural Utilities Service (RUS) is authorized by the Consolidated Farm and Rural Development Act to make loans to public agencies, nonprofit corporations, and Indian tribes for the development of water and waste disposal facilities primarily servicing rural residents. The guaranteed loan program encourages lender participation and provides specific guidance in the processing and servicing of guaranteed loans.

Need and Use of the Information: Rural Development's field offices will collect information from applicants/borrowers, lenders, and consultants to determine eligibility, project feasibility and to ensure borrowers operate on a sound basis and use loan funds for authorized purposes. There are agency forms required as well as other requirements that involve certifications from the borrower, lenders, and other parties. Failure to collect proper information could result in improper determinations of eligibility, use of funds and or unsound loans.

Description of Respondents: Business or other for-profit.

Number of Respondents: 15.

Frequency of Responses: Reporting: On occasion.

Total Burden Hours: 858.

Forest Service

Title: Application for the Senior Community Service Employment Program.

OMB Control Number: 0596-0099.

Summary of Collection: The Senior Community Service Employment Program (SCSEP) is administered in conjunction with Title V of the Older Americans Act of 1965, as amended. The Secretary of Labor administers this program in order to foster and promote useful part-time opportunities in community services activities for unemployed low-income persons who are age 55 or older. The Forest Service (FS) participates as one of 10 national sponsors under a grant agreement from the Department of Labor and operates the SCSEP in 40 states, the District of Columbia, and Puerto Rico. Through the SCSEP the vast majority of applications become self-reliant and independent of welfare programs and have upgraded their skills and transitioned into the regular labor market. The FS will collect information using form FS 1800-21b “Application for Senior Community Service Employment Program.”

Need and Use of the Information: FS will collect the following information: identification data (name, address, and birth date); eligibility information (number in family, income and signature); applicant's disposition (family income level determination, eligibility determination, community service assignment determination); and other information such as age, sex, education level, ethnic group, his/her veteran and handicapped position. The information will also be used to provide the administrative office within the Department of Labor data on the program's enrollment. If the FS does not collect the above data from each person applying to the SCSEP, participant eligibility determination could not be legally made and the Forest Service could forfeit its right to remain a viable program sponsor.

Description of Respondents: Individuals or households.

Number of Respondents: 6,500.

Frequency of Responses: Recordkeeping; Reporting: Other (initial application).

Total Burden Hours: 1,083.

Nancy B. Sternberg,
Departmental Clearance Officer.

[FR Doc. 00-27218 Filed 10-23-00; 8:45 am]

BILLING CODE 3410-01-M